ENVIRONMENTAL PROTECTION AGENCY

[FRL-8516-3; EPA-HQ-OEI-2007-0977]

Deletion of Risk Management Plan SORN

AGENCY: Environmental Protection Agency.

ACTION: Notice of a Deletion of System of Records Notice for the Risk Management Plan Review Access List.

SUMMARY: Pursuant to the provisions of the Privacy Act of 1974 (5 U.S.C. 552a), the Environmental Protection Agency's Office of Solid Waste and Emergency Response, Office of Emergency Management, is giving notice that it is deleting the system of records for the Risk Management Plan Review Access List. The information in this system of record is neither indexed nor retrieved by a personal identifier.

EFFECTIVE DATES: This notice is effective upon publication.

FOR FURTHER INFORMATION CONTACT: Dorothy McManus, (202) 564-8606.

SUPPLEMENTARY INFORMATION:

I. General Information

The Risk Management Plan Review Access List system of records does not duplicate any existing system of records. The system contains the names, title, position, telephone number, fax number, e-mail address, user ID and password of local, state and federal government officials, qualified researchers and others who are “covered persons” under the Chemical Safety, Site Security and Fuels Regulatory Relief Act (CSISSFRRA) of 1999, and who have requested Risk Management Plan information under CSISSFRRA. CSISSFRRA, an amendment to the Clean Air Act, imposes access restrictions to some portions of risk management plans submitted under the Clean Air Act. Access to the system is restricted to authorized users and is maintained in a secure, password-protected computer system, in secure areas and buildings with physical access controls and environmental controls. The system is maintained by the Office of Emergency Management in the Office of Solid Waste and Emergency Response.

Dated: December 21, 2007.
Molly O'Neill,
Assistant Administrator and Chief Information Officer.

[FR Doc. E8-659 Filed 1-15-08; 8:45 am]

BILLING CODE 6560-50-P